ENVIRONMENTAL PROTECTION AGENCY

[FRL-7023-1]

Preliminary Draft Staff Paper for Particulate Matter

AGENCY: Environmental Protection Agency (EPA).

ACTION: Notice of extension of comment period.

SUMMARY: On June 15, 2001, the Office of Air Quality Planning and Standards (OAQPS)of EPA announced in a Federal Register document (66 FR 32621) the availability for public review and comment of a preliminary draft document, Review of the National Ambient Air Quality Standards for Particulate Matter: Policy Assessment of Scientific and Technical Information (Preliminary Draft Staff Paper), and a draft EPA document entitled Particulate Matter NAAQS Risk Analysis Scoping Plan. In response to requests from several commenters, EPA is extending the comment period for the preliminary draft Staff Paper beyond the original date of July 12, 2001.

DATES: Comments on the preliminary draft Staff Paper should be submitted on or before September 28, 2001.

ADDRESSES: Comments on the preliminary draft Staff Paper should be submitted to Dr. Mary Ross, Office of Air Quality Planning and Standards (MD-15), U.S. Environmental Protection Agency, Research Triangle Park, NC 27711; e-mail: ross.mary@epa.gov; telephone: (919) 541-5170; fax: (919) 541-0237.

Availability of Related Information

Single copies of the preliminary draft Staff Paper may be obtained without charge by contacting Mary Ross at the address or telephone number listed above. Please include name, address, telephone number, e-mail if available, and delivery preference (mail or e-mail delivery).

Electronic Availability

The preliminary draft Staff Paper can also be obtained online at the Agency's OAQPS Technology Transfer Network (TTN) under the technical area of Office of Air and Radiation Policy and Guidance (OAR P&G) at the following internet web site: http//www.epa.gov/ttn/oarpg/ramain.html. If assistance is needed in accessing the system, call the help desk at (919) 541-5384 in Research Triangle Park, NC.

FOR FURTHER INFORMATION CONTACT: Dr. Mary Ross at the address and telephone number given above.

SUPPLEMENTARY INFORMATION: The purpose of the Staff Paper is to evaluate the policy implications of the key scientific and technical information contained in a related document, Air Quality Criteria for Particulate Matter (Criteria Document), required under sections 108 and 109 of the Clean Air Act (CAA) for use in the periodic review of the national ambient air quality standards (NAAQS) for particulate matter (PM). This preliminary draft Staff Paper includes preliminary assessments of the scientific and technical information contained in the second external review draft of the Criteria Document (66 FR 18929, April 12, 2001) and discusses proposed analyses to be conducted for inclusion in a subsequent draft Staff Paper. Staff conclusions and recommendations on the PM NAAQS are not included in this preliminary draft but will be included in a subsequent draft to be made available for further review and comment as indicated below.

The preliminary draft Staff Paper and draft Risk Analysis Scoping Plan (along with the second external review draft of the Criteria Document) are being reviewed at a public meeting of the Clean Air Scientific Advisory Committee (CASAC) of EPA's Science Advisory Board on July 23-24, 2001. For the purposes of that meeting, OAQPS staff has reviewed comments on these documents submitted by July 12, 2001. OAQPS staff will now prepare a revised draft Staff Paper, taking into account CASAC comments and public comments received by September 28, 2001, as well as any revisions made to the draft Criteria Document in light of CASAC and public comments on that document. The revised draft Staff Paper will then be made available for review and comment by CASAC and the public.

In conjunction with preparation of a revised draft Staff Paper, OAQPS staff will also prepare a more detailed technical methodological report on the risk analysis for PM, taking into account CASAC and public comments on the draft Scoping Plan. The technical methodological report will also be made available for public and CASAC comment prior to the preparation of a risk assessment, the results of which will be included in the revised draft Staff Paper. Thus, parties interested in providing further comments on the PM risk assessment methodology can do so in conjunction with review of the more detailed technical methodological report that is targeted for release this Fall.

Dated: July 25, 2001.
Henry C. Thomas,
Acting Director, Office of Air Quality Planning and Standards.

[FR Doc. 01-19570 Filed 8-3-01; 8:45 am]

BILLING CODE 6560-50-P